ENVIRONMENTAL PROTECTION AGENCY

40 CFR Part 52

[NC 95-200034a; FRL-6993-9]

Approval and Promulgation of Implementation Plans; North Carolina: Approval of Revisions to Miscellaneous Volatile Organic Compounds Regulations Within the North Carolina State Implementation Plan

AGENCY: Environmental Protection Agency (EPA).

ACTION: Direct final rule.

SUMMARY: On July 28, 2000, the North Carolina Department of Health and Natural Resources submitted revisions to the North Carolina State Implementation Plan (SIP). These revisions include the adoption, revision and repeal of multiple Volatile Organic Compounds (VOCs) regulations. The purpose of these revisions is to make the revised regulations consistent with the requirements of the Clean Air Act as amended in 1990. The EPA is approving these revisions.

DATES: This direct final rule is effective August 27, 2001 without further notice, unless EPA receives adverse comment by July 27, 2001. If adverse comment is received, EPA will publish a timely withdrawal of the direct final rule in the Federal Register and inform the public that the rule will not take effect.

ADDRESSES: All comments should be addressed to: Randy Terry at the EPA, Region 4 Air Planning Branch, 61 Forsyth Street, SW, Atlanta, Georgia 30303.

Copies of the State submittal(s) are available at the following addresses for inspection during normal business hours: Environmental Protection Agency, Region 4, Air Planning Branch, 61 Forsyth Street, SW, Atlanta, Georgia 30303-8960. Randy Terry, 404/562-9032. North Carolina Department of Environment, Health, and Natural Resources, 512 North Salisbury Street, Raleigh, North Carolina 27604.

FOR FURTHER INFORMATION CONTACT: Randy B. Terry at 404/562-9032.

SUPPLEMENTARY INFORMATION:

I. Background

On July 28, 2000, the North Carolina Department of Health and Natural Resources submitted revisions to the North Carolina SIP. These revisions include the adoption, revision and repeal of multiple VOC regulations. A detailed analysis of each of the major revisions submitted is listed below.

II. Analysis of State's Submittal

15A NCAC

2D .0518 Miscellaneous Volatile Organic Compound Emissions

This rule has been repealed. Most of the requirements set forth in this rule have become antiquated or have been incorporated into other air quality rules. The remaining requirements which have not been incorporated into other rules, will be covered in 15A NCAC 2D. 0958 Work Practice Standards for VOCs.

2D .0902 Applicability

This rule is being amended to add references to new or recently adopted VOC rules. This change is necessary in part to ensure that the requirements that were contained in 2D .0518 are now covered in new requirements located in 2D .0900 VOCs.

2D .0909 Compliance Schedules For Sources in New Nonattainment Areas.

This rule is being amended to remove references to 2D .0518.

2D .0948 VOC Emissions from Transfer Operations

This rule is being amended to correct minor administrative changes and clarifications.

2D .0949 VOC Storage of Miscellaneous Volatile Organic Compounds.

This rule is being amended to remove the requirement of having the director approve the vapor recovery system or any other means of air pollution. Approval must now be obtained through the permitting process.

2D .0950 Interim Standards for Certain Source Categories.

This rule is being repealed since it is obsolete and does not currently apply to any source.

2D .0951 Miscellaneous Volatile Organic Compound Emissions.

This rule is being amended to eliminate all former references to 2D .0518, add references to 2D .0958, and make other minor modifications to update this rule. Additionally, this rule is being revised to require the usage of Reasonably Available Control Technology (RACT), so that this rule remains consistent with the other rules in section 2D .0900.

2D .0958 Work Practices for Sources of Volatile Organic Compounds

This rule is being adopted to establish work practice standards for a wide spectrum of VOC sources. These work practice standards include such practices as: storing all VOC material in containers with tightly fitting lids, cleaning up all spills of VOC materials as soon as possible, and similar, reasonable controls for solvent cleaning activities. These new standards will replace the existing VOC requirements that have become antiquated.

2Q .0102 Activities Exempted From Permit Requirements

This rule is being revised to correct cross references to the state incinerator regulations.

2Q .0306 Permits Requiring Public Participation

This rule is being revised to correct cross references to the state incinerator regulations.

III. Final Action

EPA is approving the aforementioned changes to the SIP because the revisions are consistent with Clean Air Act and EPA regulatory requirements. The EPA is publishing this rule without prior proposal because the Agency views this as a noncontroversial submittal and anticipates no adverse comments. However, in the proposed rules section of this Federal Register publication, EPA is publishing a separate document that will serve as the proposal to approve the SIP revision should adverse comments be filed. This rule will be effective August 27, 2001 without further notice unless the Agency receives adverse comments by July 27, 2001.

If the EPA receives such comments, then EPA will publish a document withdrawing the final rule and informing the public that the rule will not take effect. All public comments received will then be addressed in a subsequent final rule based on the proposed rule. The EPA will not institute a second comment period. Parties interested in commenting should do so at this time. If no such comments are received, the public is advised that this rule will be effective on August 27, 2001 and no further action will be taken on the proposed rule.

IV. Administrative Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the states, on the relationship between the national government and the states, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the Executive Order. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by August 27, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Hydrocarbons, Intergovernmental relations, Nitrogen dioxide, Ozone, Reporting and recordkeeping requirements.

Dated: January 5, 2001.
A. Stanley Meiburg,
Acting Regional Administrator, Region 4.

Accordingly, 40 CFR, chapter I, part 52 is amended as follows:

PART 52—[AMENDED]

1. The authority for citation for part 52 continues to read as follows:

Authority: 42 U.S.C. 7401 et seq.

Subpart II—North Carolina

2. In the table in § 52.1770(c), the table is amended:

a. Under subchapter 2D by revising entries: .0902; .0909; .0948; .0949; and .0951;

b. Under subchapter 2D by adding in numerical order a new entry for .0958.

c. Under subchapter 2D by removing entries .0518; and .0950.

d. Under subchapter 2Q by revising entries .0102 and .0306.

The revisions and additions read as follows:

§ 52.1770 Identification of plan.

* * * * *

(c) * * *

EPA Approved North Carolina Regulations
State citation | Title/subject | State effective date | EPA approval date | Comments
Subchapter 2D Air Pollution Control Requirements
| * * * * * * *
Section .0900 Volatile Organic Compounds
| * * * * * * *
Sect. .0902 | Applicability | 07/01/00 | 8/27/01
| * * * * * * *
Sect. .0909 | Compliance Schedules for Sources in New Nonattainment Areas | 07/01/00 | 8/27/01
| * * * * * * *
Sect. .0948 | VOC Emissions From Transfer Operations | 07/01/00 | 8/27/01
Sect. .0949 | Storage of Miscellaneous Volatile Organic Compounds | 07/01/00 | 8/27/01
Sect. .0951 | Miscellaneous Volatile Organic Compound Emissions | 07/01/00 | 8/27/01
| * * * * * * *
Sect. .0958 | Work Practices for Sources of Volatile Organic Compounds | 07/01/00 | 8/27/01
| * * * * * * *
Subchapter 2Q Air Quality Permits
| * * * * * * *
Section .0100 General Provisions
| * * * * * * *
Sect. .0102 | Activities Exempted From Permit Requirements | 07/01/00 | 8/27/01
| * * * * * * *
Section .0300 Construction and Operating Permits
| * * * * * * *
Sect. .0306 | Permits Requiring Public Participation | 07/01/00 | 8/27/01
| * * * * * * *

[FR Doc. 01-15875 Filed 6-26-01; 8:45 am]

BILLING CODE 6560-50-P